DEPARTMENT OF ENERGY

Federal Energy Regulatory Commission

[Project No. 77-318]

Pacific Gas & Electric Company; Notice Extending Comment Period

On July 23, 2023, and supplemented January 30, 2025 and September 26, 2025, Pacific Gas and Electric Company filed an application for a non-capacity license amendment for Article 52 of the Potter Valley Project No. 77. The project is located on the Eel River and East Fork of the Russian River in Lake and Mendocino counties, California. The project occupies federal lands managed by the U.S. Forest Service.

On October 31, 2025, the Commission issued public notice of the application and established December 1, 2025, as the deadline for filing comments, motions to intervene, and protests. On November 20, 2025, a communication from the U.S. Department of Agriculture (USDA) was filed to the docket,¹ requesting an extension of the comment submission deadline until December 15, 2025. The USDA explained that, due to the lapse of appropriations from October 1 through November 12, 2025, their staff were unable to review the pending application and prepare comments in response to the Commission's notice. The USDA estimates that granting the requested extension would provide it with a reasonable amount of time to review the application and respond appropriately.

¹ Accession Number: 20251121-4000.

The additional time will allow the USDA to review the proposed non-capacity amendment and potentially provide comments concerning the effects of the proposed amendment to the record. In order to provide the USDA additional time, we are extending the deadline for all entities. The new deadline for filing responses to the Notice of Application for Non-Capacity Amendment of License Accepted for Filing, Soliciting Comments, Motions to Intervene, and Protests is now December 19, 2025, 5:00 p.m. Eastern Time.

The Commission strongly encourages electronic filing. Please file comments using the Commission's eFiling system at http://www.ferc.gov/docs-filing/efiling.asp. Commenters can submit brief comments up to 6,000 characters, without prior registration, using the eComment system at http://www.ferc.gov/docs-filing/ecomment.asp. For assistance, please contact FERC Online Support. In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-77-318.

For public inquiries and assistance with making filings such as interventions, comments, or requests for rehearing, contact the Office of Public Participation at (202) 502-6595 or OPP@ferc.gov.

For further information, contact Katherine Schmidt at 415-369-3348 or katherine.schmidt@ferc.gov.

(Authority: 18 CFR 2.1)

Dated: December 1, 2025.
Carlos D. Clay,
Deputy Secretary.

[FR Doc. 2025-21953 Filed 12-3-25; 8:45 am]

BILLING CODE 6717-01-P